DEPARTMENT OF LABOR

Employment and Training Administration

[TA-W-59,152]

Westpoint Home; Abbeville Plant; Abbeville, AL; Notice of Termination of Investigation

Pursuant to Section 221 of the Trade Act of 1974, as amended, an investigation was initiated on April 5, 2006 in response to a petition filed by a company official on behalf of workers at Westpoint Home, Abbeville Plant, Abbeville, Alabama.

The petitioner has requested that the petition be withdrawn. Consequently, the investigation has been terminated.

Signed at Washington, DC, this 16th day of May, 2006.
Elliott S. Kushner,
Certifying Officer, Division of Trade Adjustment Assistance.

[FR Doc. E6-8775 Filed 6-6-06; 8:45 am]

BILLING CODE 4510-30-P